SMALL BUSINESS ADMINISTRATION

[Declaration of Disaster #3552]

Commonwealth of Pennsylvania

As a result of the President's major disaster declaration on September 26, 2003, I find that Chester County in the Commonwealth of Pennsylvania constitutes a disaster area due to damages caused by Tropical Storms Henri and Isabel, and related severe storms and flooding occurring on September 15 through September 23, 2003. Applications for loans for physical damage as a result of this disaster may be filed until the close of business on November 25, 2003 and for economic injury until the close of business on June 28, 2004 at the address listed below or other locally announced locations:

U.S. Small Business Administration, Disaster Area 1 Office, 360 Rainbow Blvd., South 3rd Fl., Niagara Falls, NY 14303-1192.

In addition, applications for economic injury loans from small businesses located in the following contiguous counties may be filed until the specified date at the above location: Berks, Delaware, Lancaster and Montgomery in the Commonwealth of Pennsylvania; New Castle County in the State of Delaware; and Cecil County in the State of Maryland.

The interest rates are:

| Percent
For Physical Damage:
Homeowners with credit available elsewhere | 5.125
Homeowners without credit available elsewhere | 2.562
Businesses with credit available elsewhere | 6.199
Businesses and non-profit organizations without credit available elsewhere | 3.100
Others (including non-profit organizations) with credit available elsewhere | 5.500
For Economic Injury:
Businesses and small agricultural cooperatives without credit available elsewhere | 3.100

The number assigned to this disaster for physical damage is 355208. For economic injury the number is 9X2100 for Pennsylvania; 9X2200 for Delaware; and 9X2300 for Maryland.

(Catalog of Federal Domestic Assistance Program Nos. 59002 and 59008)
Dated: September 29, 2003
Herbert L. Mitchell,
Associate Administrator for Disaster Assistance.

[FR Doc. 03-25368 Filed 10-6-03; 8:45 am]

BILLING CODE 8025-01-P